DEPARTMENT OF THE INTERIOR

Bureau of Land Management

[WO-350-1430-PF-01-24 1A]

Extension of Approved Information Collection, OMB Approval Number 1004-0189

AGENCY: Bureau of Land Management, Interior.

ACTION: Notice and request for comments.

SUMMARY: In accordance with the Paperwork Reduction Act of 1995, the Bureau of Land Management (BLM) is requesting the Office of Management and Budget (OMB) to extend an existing approval to collect certain information from entities desiring a right-of-way across public lands under 43 CFR part 2800 and 43 CFR part 2880. BLM and several other agencies use Form 299, Application for Transportation and Utility System and Facility, to determine whether or not applicants qualify to hold right-of-way grants across public lands and several other purposes.

DATES: You must submit your comments to BLM at the address below on or before October 9, 2001. BLM will not necessarily consider any comments received after the above date.

ADDRESSES: You may mail comments to: Regulatory Affairs Group (630), Bureau of Land Management, Mailstop 401LS, 1849 C Street, NW, Washington, DC 20240.

You may send comments via Internet to: WOComment@blm.gov. Please include “ATTN: 1004-0189” and your name and return address in your Internet message.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Alzata L. Ransom, Realty Use Group, on (202) 452-7772 (Commercial or FTS). Persons who use a telecommunication device for the deaf (TDD) may call the Federal Information Relay Service (FIRS) on 1-800-877-8330, 24 hours a day, seven days a week, to contact Ms. Ransom.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Title XI of the Alaska National Interest Lands Conservation Act of December 2, 1980, requires that the Departments of Agriculture, Interior, and Transportation use a consolidated form in connection with rights-of-way for transportation and utility. The Federal Land Policy and Management Act of 1976, the Mineral Leasing Act, and the regulations under 43 CFR part 2800 and 43 CFR part 2880 authorizes BLM to use Form 299. BLM will use Form 299 to collect information to:

(1) Determine if the applicant qualifies for a right-of-way grant;

(2) Identify and communicate with the applicant on its right-of-way application;

(3) Identify the project location;

(4) Determine and compare existing and proposed land uses; and

(5) Determine if alternate routes and modes are available to the applicant on the right-of-way application.

Without this information, BLM would not be able to properly administer its right-of-way program.

Based upon BLM experience and recent tabulations of activity, we process approximately 4,900 applications each year. The public reporting information collection burden takes about 2 hours to complete. The estimated number of responses per year is 4,900. The estimated total annual burden is 9,800 hours.

BLM will summarize all responses to this notice and include them in the request for OMB approval. All comments will become a matter of public record.

Dated: July 24, 2001.
Michael H. Schwartz,
BLM Information Collection Clearance Officer.

[FR Doc. 01-20026 Filed 8-8-01; 8:45 am]

BILLING CODE 4310-84-M